FEDERAL COMMUNICATIONS COMMISSION

47 CFR Part 73

[MB Docket No. 20-428; RM-11870; DA 20-1487; FRS 17346]

Television Broadcasting Services: Columbia, Missouri

AGENCY: Federal Communications Commission.

ACTION: Proposed rule.

SUMMARY: The Commission has before it a petition for rulemaking filed by The Curators of the University of Missouri (the University), licensee of KOMU-TV, channel 8, Columbia, Missouri, requesting the substitution of channel 27 for channel 8 at Columbia in the DTV Table of Allotments. The University states that the Commission has recognized that VHF channels have certain propagation characteristics which may cause reception issues for some viewers. The University states that since the end of the DTV transition in 2009, the station regularly receives complaints from viewers who report being able to receive all other signals in the market, including a low power television station operating on a UHF channel, but not KOMU-TV. While KOMU-TV's proposed channel 27 facility would result in a slight reduction of service to existing viewers, the University demonstrates that only 401 people are predicted to live in portions of the loss area, and that all but seven of those persons will continue to be served by at least five full power television stations. The Commission has found that population loss of less than 500 persons is de minimus and the predicted population loss as presented by the University is only 401 persons and virtually all of them will continue to be well-served by five other full power television stations.

DATES: Comments must be filed on or before January 29, 2021 and reply comments on or before February 16, 2021.

ADDRESSES: Federal Communications Commission, Office of the Secretary, 45 L Street NE, Washington, DC 20554. In addition to filing comments with the FCC, interested parties should serve counsel for petitioner as follows: Lauren Lynch Flick, Esq., Pillsbury Winthrop Shaw Pittman LLP, 1200 Seventeenth Street NW, Washington, DC 20036.

FOR FURTHER INFORMATION CONTACT: Joyce Bernstein, Media Bureau, at (202) 418-1647; or Joyce Bernstein, Media Bureau, at Joyce.Bernstein@fcc.gov.

SUPPLEMENTARY INFORMATION: This is a synopsis of the Commission's Notice of Proposed Rulemaking, MB Docket No. 20-428; RM-11870; DA 20-1487, adopted December 16, 2020, and released December 16, 2020. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, and 339.

§ 73.622 [Amended]

2. Amend § 73.622(i), the Post-Transition Table of DTV Allotments under Missouri, by removing channel 8 and adding channel 27 at Columbia.

[FR Doc. 2020-28613 Filed 12-29-20; 8:45 am]

BILLING CODE 6712-01-P